COMMISSION ON CIVIL RIGHTS

Agenda and Notice of Public Meeting of the New Jersey Advisory Committee

Notice is hereby given, pursuant to the provisions of the rules and regulations of the U.S. Commission on Civil Rights, that a meeting of the New Jersey Advisory Committee to the Commission will convene at 9:30 a.m. and adjourn at 4:00 p.m. on Friday, June 30, 2000, at the Delaware River Port Authority, Multipurpose Room, 11th Floor, One Port Center, Two River Drive, Camden, New Jersey 08103. The purpose of the meeting is to gather information on (1) the State civil rights enforcement effort and (2) the racial profiling by law enforcement officers in New Jersey. The Committee will also plan and review project activities.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC.
Lisa M. Kelly,
Special Assistant to the Staff Director.

[FR Doc. 00-13677 Filed 5-31-00; 8:45 am]

BILLING CODE 6335-01-F